DEPARTMENT OF HEALTH AND HUMAN SERVICES

National Institutes of Health

National Institute of Child Health and Human Development; Notice of Meeting

Pursuant to section 10(a) of the Federal Advisory Committee Act, as amended (5 U.S.C. Appendix 2), notice is hereby given of a meeting of the National Longitudinal Study of Environmental Effects on Child Health and Development.

The meeting will be open to the public, with attendance limited to space available. Individuals who plan to attend and need special assistance, such as sign language interpretation or other reasonable accommodations, should notify the contact Person listed below in advance of the meeting.

Name of Committee: National Longitudinal Study of Environmental Effects on Child Health and Development.

Date: April 7-8, 2002.

Time: April 7, 2002, 11:30 a.m. to 2 p.m.

Agenda: To orient members and complete administrative business relevant to the establishment of the committee.

Place: Sheraton Premiere Hotel, 8661 Leesburg Pike, Vienna, VA.

Time: April 8, 2002, 8 a.m. to 5:30 p.m.

Agenda: Report of the Inter-agency Coordinating Committee, Discussion of Working Group membership, review of Working Group products.

Place: Sheraton Premiere Hotel 8661 Leesburg Pike, Vienna VA.

Contact Person: Peter M. Scheidt, MD, Medical Officer, Division of Epidemiology, Statistics and Prevention Research, National Institute of Child Health and Human Development, NIH, 6100 Executive Boulevard, Room 7B03, Bethesda, MD 20892, (301) 451-6421, ncs@nauk.nih.gov.

(Catalogue of Federal Domestic Assistance Program Nos. 93.209, Contraception and Infertility Loan Repayment Program; 93.864, Population Research; 93.865 Research for Mothers and Children; 93.929, Center for Medical Rehabilitation on Research National Institutes of Health, HHS)

Dated: March 8, 2002.
LaVerne Y. Stringfield,
Director Office of Federal Advisory Committee Policy.

[FR Doc. 02-6392 Filed 3-15-02; 8:45 am]

BILLING CODE 4140-01-M